DEPARTMENT OF EDUCATION

[CFDA No.: 84.245]

Office of Vocational and Adult Education; Tribally Controlled Postsecondary Vocational and Technical Institutions Program

ACTION: Modification of notice published on March 28, 2001 inviting applications for new awards for fiscal year (FY) 2001.

Notice to Applicants: On March 28, 2001, the Secretary published in the Federal Register (66 FR 17036) a notice inviting applications for new awards for FY 2001 for the Tribally Controlled Postsecondary Vocational and Technical Institutions Program. This notice modifies the notice published on March 28, 2001 by reducing the project period under this competition from three years to one year and by extending the deadline for transmittal of applications under this competition to June 21, 2001. Under the program statute, the Secretary has the discretion to determine the length of project periods to be funded. As a result of concerns raised about the Department's implementation of the changes to the program resulting from the 1998 statutory reauthorization, the Secretary has determined that it is important to engage in a more extensive consultative process with Indian tribes and other interested parties about the future implementation of this program, as soon as possible, without unduly delaying this year's grant competition. Accordingly, the Secretary has determined that it is preferable to award grants for one-year project periods in FY 2001, rather than to award grants for three-year project periods. The extension of the application deadline is intended to provide eligible applicants, who have begun preparation of three-year project applications based on the March 28, 2001 notice, with additional time to revise their applications in accordance with this notice of modification.

New Deadline for Transmittal of Applications: June 21, 2001.

Project Period: 1 year.

FOR FURTHER INFORMATION CONTACT: Paul Geib, Special Programs Branch, Division of National Programs, Office of Vocational and Adult Education, U.S. Department of Education, 400 Maryland Avenue, SW., (Room 4528, Mary E. Switzer Building), Washington, DC 20202-7242. Telephone (202) 205-9962. Internet address: paul.geib@ed.gov.

If you use a telecommunications device for the deaf (TDD), you may call the Federal Information Relay Service (FIRS) at 1-888-877-8339. Individuals with disabilities may obtain this notice in an alternative format (e.g., Braille, large print, audiotape, or computer diskette) on request to the contact person listed at the beginning of this paragraph.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 20 U.S.C. 2327(a)-(f) and (h).

Dated: May 11, 2001.
Robert Muller,
Deputy Assistant Secretary, Office of Vocational and Adult Education.

[FR Doc. 01-12328 Filed 5-15-01; 8:45 am]

BILLING CODE 4000-01-P